DEPARTMENT OF HOMELAND SECURITY

Coast Guard

33 CFR Part 165

[Docket No. USCG-2024-0542]

Safety Zones; Recurring Safety Zones in Captain of the Port Northern Great Lakes Zone

AGENCY: Coast Guard, DHS.

ACTION: Notification of enforcement of regulation.

SUMMARY: The Coast Guard will enforce various safety zones for maritime events in the Captain of the Port Northern Great Lakes. Enforcement of these safety zones is necessary to protect the safety of life and property on the navigable waters immediately prior to, during, and immediately after this event. During the period, the Coast Guard will enforce restrictions upon, and control movement of, vessels in a specified area immediately prior to, during, and immediately after events. During each enforcement period, vessels must stay out of the established safety zone and may only enter with permission from the designated representative of the Captain of the Port Northern Great Lakes.

DATES: The regulations listed in 33 CFR 165.918 will be enforced for the safety zones identified in the SUPPLEMENTARY INFORMATION section below for the dates and times specified.

FOR FURTHER INFORMATION CONTACT: If you have questions about this publication, call or email Waterways Management division, LT Rebecca Simpson, Coast Guard Sector Northern Great Lakes, U.S. Coast Guard; telephone 906-635-3223, email ssmprevention@uscg.mil.

SUPPLEMENTARY INFORMATION: The Coast Guard will enforce the safety zones in 33 CFR 165.918 as per the time, dates, and locations indicated below:

(2) Canada Day Celebration Fireworks (Sault Sainte Marie, MI) from 10 p.m. through 11:00 p.m. on July 1, 2024. The zone includes all U.S. navigable waters of the St. Marys River within an approximate 1400-foot radius from the fireworks launch site, centered approximately 160 yards north of the U.S. Army Corp of Engineers Soo Locks North East Pier, at position 46°30′20.40″ N, 084°20′17.64″ W.

(3) Bay Harbor Yacht Club Fourth of July Celebration Fireworks (Petoskey, MI) from 10:00 p.m. through 11:00 p.m. on July 3, 2024. The zone includes all U.S. navigable waters of Lake Michigan and Bay Harbor Lake within the arc of a circle with an approximate 750-foot radius from the fireworks launch site located on a barge in position 45°21′50″ N, 085°01′37″ W.

(4) Munising Fourth of July Celebration Fireworks (Munising, MI) from 7 p.m. through 11:45 p.m. on July 4, 2024. This zone includes all U.S. navigable waters of South Bay within an approximate 800-foot radius from the fireworks launch site at the end of the Munising City Dock, centered in position: 46°24′50.08″ N, 086°39′08.52″ W.

(5) Sault Sainte Marie Fourth of July Celebration Fireworks (Sault Sainte Marie, MI) from 10 p.m. through 10:30 p.m. on July 4, 2024. The zone includes all U.S. navigable waters of the St. Marys River within an approximate 1000-foot radius around the eastern portion of the U.S. Army Corp of Engineers Soo Locks North East Pier, centered in position: 46°30′19.66″ N, 084°20′31.61″ W. This notice also includes alternative rain dates one day after any affected event.

(6) Boyne City Fourth of July Celebration Fireworks (Boyne City, MI) from 9:30 p.m. through 11 p.m. on July 4, 2024. The zone includes all U.S. navigable waters of Lake Charlevoix, in the vicinity of Veterans Park, within the arc of a circle with an approximate 1400-foot radius from the fireworks launch site located in position 45°13′30″ N, 085°01′40″ W. This notice also includes alternative rain dates one day after any affected event.

(7) Mackinac Island Fourth of July Celebration Fireworks (Mackinac Island, MI) from 9:30 p.m. through 11 p.m. on July 4, 2024. The zone includes all U.S. navigable waters of Lake Huron within an approximate 750-foot radius of the fireworks launch site, centered approximately 1000 yards west of Round Island Passage Light, at position 45°50′34.92″ N, 084°37′38.16″ W. This notice also includes alternative rain dates one day after any affected event.

(8) Harbor Springs Fourth of July Celebration Fireworks (Harbor Springs, MI) from 10 p.m. through 11:30 p.m. on July 4, 2024. The zone includes all U.S. navigable waters of Lake Michigan and Harbor Springs Harbor within the arc of a circle with an approximate 1200-foot radius from the fireworks launch site located on a barge in position 45°25′30″ N, 084°59′06″ W.

(9) Alpena Fourth of July Celebration Fireworks (Alpena, MI) from 10 p.m. through 12:01 a.m. on July 3, 2024. The zone includes all U.S. navigable waters of Lake Huron within an approximate 1000-foot radius of the fireworks launch site located near the end of Mason Street, South of State Avenue, at position 45°02′42″ N, 083°26′48″ W.

(10) Traverse City Fourth of July Celebration Fireworks (Traverse City, MI) from 10 p.m. through 10:30 p.m. on July 4, 2024. The zone includes all U.S. navigable waters of the West Arm of Grand Traverse Bay within the arc of a circle with an approximate 1200-foot radius from the fireworks launch site located on a barge in position 44°46′12″ N, 085°37′06″ W. This notice also includes alternative rain dates one day after any affected event.

(11) Petoskey Fourth of July Celebration Fireworks (Petoskey, MI)) from 10 p.m. through 11 p.m. on July 4, 2024. The zone includes all U.S. navigable waters of Lake Michigan and Petoskey Harbor, in the vicinity of Bay Front Park, within the arc of a circle with an approximate 1200-foot radius from the fireworks launch site located in position 45°22′40″ N, 084°57′30″ W.

(12) National Cherry Festival Finale Fireworks (Traverse City, MI) from 10 p.m. through 10:30 p.m. on July 6, 2024. The zone includes all U.S. navigable waters of the West Arm of Grand Traverse Bay within the arc of a circle with an approximate 1200-foot radius from the fireworks launch site located on a barge in position 44°46′12″ N, 085°37′06″ W.

Under the provisions of 33 CFR 165.918, entry into, transiting, or anchoring within the safety zones during an enforcement period is prohibited unless authorized by the Captain of the Port Northern Great Lakes or his designated representative. Those seeking permission to enter the safety zone may request permission from the Captain of Port Northern Great Lakes via channel 16, VHF-FM. Vessels and persons granted permission to enter the safety zone shall obey the directions of the Captain of Port Northern Great Lakes or his designated representatives. While within the safety zone, all vessels shall operate at the minimum speed necessary to maintain a safe course.

This notice of enforcement is issued under authority of 33 CFR 165.918 and 5 U.S.C. 552 (a). In addition to this notice of enforcement in the Federal Register, the Coast Guard will provide the maritime community with advance notification of this enforcement period via Broadcast Notice to Mariners or Local Notice to Mariners. If the Captain of the Port Sault Sainte Marie determines that the safety zone need not be enforced for the full duration stated in this notice he or she may suspend such enforcement and notify the public of the suspension via Broadcast Notice to Mariners and grant general permission to enter the respective safety zone.

Dated: June 18, 2024.
J.R. Bendle,
Captain, U.S. Coast Guard, Captain of the Port Northern Great Lakes.

[FR Doc. 2024-13835 Filed 6-24-24; 8:45 am]

BILLING CODE 9110-04-P